DEPARTMENT OF ENERGY

Western Area Power Administration

Pacific Northwest-Pacific Southwest Intertie Project—Rate Order No. WAPA-133

AGENCY: Western Area Power Administration, DOE.

ACTION: Notice of Order Extending Transmission Service Rates and Notice of Extension of Public Process for Rate Adjustment.

SUMMARY: This action is to extend the existing Pacific Northwest-Pacific Southwest Intertie Project (Intertie) transmission service rates through December 31, 2007. Simultaneously, the Western Area Power Administration (Western) is extending the public process for a rate adjustment that was initiated in July 2006 under Rate Order No. WAPA-130. Without this action, the existing transmission service rates will expire December 31, 2006, and no rates will be in effect for these services. Western initiated a public process to modify the transmission service rates for the Intertie, via a notice published in the Federal Register on July 12, 2006. Western is extending the comment and consultation period to allow sufficient time to evaluate additional alternatives to the proposed rates. In conjunction with extending the comment and consultation period, Western will hold an additional public information forum and public comment forum.

DATES: The extended consultation and comment period begins today and will end March 28, 2007. A public information forum will be held on February 8, 2007, beginning at 10 a.m. MST in Phoenix, AZ. A public comment forum will be held February 27, 2007, beginning at 10 a.m. MST in Phoenix, AZ. Western will accept written comments any time during the consultation and comment period.

ADDRESSES: The public information forum and public comment forum will be held at the Desert Southwest Region Customer Service Office, 615 South 43rd Avenue, Phoenix, AZ, on the dates cited above. Send written comments to Mr. J. Tyler Carlson, Regional Manager, Desert Southwest Region, Western Area Power Administration, P.O. Box 6457, Phoenix, AZ 85005-6457, e-mail carlson@wapa.gov. Written comments may also be faxed to (602) 605-2490, attention: Jack Murray. Western will post information about the rate process on its Web site at http://www.wapa.gov/dsw/pwrmkt/Intertie/RateAdjust.htm. Western will post official comments received via letter, fax, and e-mail to its Web site after the close of the comment period. Western must receive written comments by the end of the consultation and comment period to ensure they are considered in Western's decision process.

As access to Western facilities is controlled, any U.S. citizen wishing to attend any meeting held at Western must present an official form of picture identification, such as a U.S. driver's license, U.S. passport, U.S. Government ID, or U.S. Military ID, at the time of the meeting. Foreign nationals should contact Western at least 45 days in advance of the meeting to obtain the necessary form for admittance to Western.

FOR FURTHER INFORMATION CONTACT: Mr. Jack Murray, Rates Team Lead, Desert Southwest Region, Western Area Power Administration, P.O. Box 6457, Phoenix, AZ 85005-6457, (602) 605-2442, e-mail jmurray@wapa.gov.

SUPPLEMENTARY INFORMATION: By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Federal Energy Regulatory Commission (FERC).

The existing Rate Schedules consist of separate firm transmission service rates for the 230/345-kilovolt (kV) and 500-kV transmission systems and a nonfirm transmission service rate for the 230/345/500-kV transmission system. Rate Schedules INT-FT2 and INT-NFT2, Rate Order No. WAPA-71 ¹, were approved for a 53-month period, beginning February 1, 1996, and ending September 30, 2000. Rate Order No. WAPA-91 ² extended these rate schedules for a 39-month period, beginning October 1, 2000, through December 31, 2003. Rate Order No. WAPA-108 ³ extended these rate schedules again beginning January 1, 2004, through December 31, 2006. Rate Schedule INT-FT3, contained in Rate Order No. WAPA-76, ⁴ was approved for a 5-year period, beginning January 1, 1999, and ending December 31, 2003. Rate Order No. WAPA-108 extended this rate schedule beginning January 1, 2004, through December 31, 2006.

¹ WAPA-71 (published 2/7/96, 61 FR 4650) was approved by FERC on a final basis on July 24, 1996, through September 30, 2000, in Docket No. EF96-5191-000 (76 FERC ¶62,061).

² WAPA-91 (published 8/29/00, 65 FR 52423) (which extended the WAPA-71 rates from October 1, 2000, through December 31, 2003) was approved by the Deputy Secretary on August 15, 2000. FERC “accepted” this extension pursuant to a letter order from Michael A. Coleman, Director, Division of Tariffs and Rates—West dated October 19, 2000 (Docket EF00-5191-000).

³ WAPA-108 (published 11/7/03, 68 FR 63083) (which extended the WAPA-76 and WAPA-71/91 rates) was approved by FERC on a final basis on March 25, 2004, through December 31, 2006, in Docket No. EF04-5191-000 (106 FERC ¶62,227)

⁴ WAPA-76 (published 2/9/99, 64 FR 6344) was approved by FERC on a final basis on June 22, 1999, through December 31, 2003, in Docket No. EF99-5191-000 (87 FERC ¶61,346).

Western's Desert Southwest Customer Service Region entered into a rate adjustment process with aFederal Register notice published on July 12, 2006, (71 FR 39310), which began the initial public consultation and comment period that ended on October 10, 2006. Western seeks this extension to provide more time to evaluate additional alternatives to the proposed rates. During the original consultation and comment period, Western was evaluating the impacts of a transmission sale arrangement that would have mitigated the proposed rate increase. However, a deferral of that transaction requires Western to assess the impact on the proposed rates as presented in the public process. The evaluation period and public process will take approximately 6 months to complete, including additional formal public forums. This makes it necessary to extend the current rates under 10 CFR 903.23(b). Upon its approval, Rate Order No. WAPA-71 and Rate Order No. WAPA-76, previously extended under Rate Order No. WAPA-91 and Rate Order No. WAPA-108, will be extended under Rate Order No. WAPA-133. Rate Order No. WAPA-133 will be submitted to FERC for confirmation and approval on a final basis.

Following review of Western's proposal within DOE, I approve Rate Order No. WAPA-133, which extends the existing Intertie firm and nonfirm transmission service rates, Rate Schedules INT-FT2, INT-FT3, and INT-NFT2, through December 31, 2007.

Dated: December 21, 2006.
Clay Sell,
Deputy Secretary.

DEPARTMENT OF ENERGY, DEPUTY SECRETARY

In the Matter of: Western Area Power Administration Rates Extension for the Pacific Northwest-Pacific Southwest Intertie Project Transmission Service Rates

Order Confirming and Approving an Extension of the Pacific Northwest-Pacific Southwest Intertie Project Transmission Service Rates

These transmission service rates were established following section 302 of the Department of Energy (DOE) Organization Act (42 U.S.C. 7152). This Act transferred to and vested in the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)), and other Acts that specifically apply to the project system involved.

By Delegation Order No. 00-037.00, effective December 6, 2001, the Secretary of Energy delegated: (1) the authority to develop power and transmission rates to the Administrator of the Western Area Power Administration (Western); (2) the authority to confirm, approve, and place such rates into effect on an interim basis to the Deputy Secretary of Energy; and (3) the authority to confirm, approve, and place into effect on a final basis, to remand, or to disapprove such rates to the Federal Energy Regulatory Commission.

Background

The existing Rate Schedules consist of separate firm transmission service rates for the 230/345-kilovolt (kV) and 500-kV transmission systems and a nonfirm transmission service rate for the 230/345/500-kV transmission system. Rate Schedules INT-FT2 and INT-NFT2, Rate Order No. WAPA-71, were approved for a 53-month period, beginning February 1, 1996, and ending September 30, 2000. Rate Order No. WAPA-91 extended these rate schedules for a 39-month period, beginning October 1, 2000, through December 31, 2003. Rate Order No. WAPA-108 extended these rate schedules again beginning January 1, 2004, through December 31, 2006. Rate Schedule INT-FT3, contained in Rate Order No. WAPA-76, was approved for a 5-year period, beginning January 1, 1999, and ending December 31, 2003. Rate Order No. WAPA-108 extended this rate schedule beginning January 1, 2004, through December 31, 2006.

Discussion

Western's Desert Southwest Customer Service Region entered into a rate adjustment process with a Federal Register notice published on July 12, 2006, (71 FR 39310), which began the initial public consultation and comment period that ended on October 10, 2006. Western seeks an extension of the public process to provide more time to evaluate additional alternatives to the proposed rates. During the original consultation and comment period, Western was evaluating the impacts of a transmission sale arrangement that would have mitigated the proposed rate increase. However, a deferral of that transaction requires Western to assess the impact on the proposed rates as presented in the public process. The evaluation period and public process will take approximately 6 months to complete, including additional formal public forums. This makes it necessary to extend the current rates pursuant to 10 CFR part 903.23(b). Upon its approval, Rate Order No. WAPA-71 and Rate Order No. WAPA-76, previously extended under Rate Order No. WAPA-91 and Rate Order No. WAPA-108, will be extended under Rate Order No. WAPA-133.

ORDER

In view of the above and under the authority delegated to me by the Secretary, I hereby extend the existing Rate Schedules INT-FT2, INT-FT3, and INT-NFT2 for firm and nonfirm transmission service from January 1, 2007, through December 31, 2007.

Dated: 12/21/06.

Clay Sell,

Deputy Secretary.

[FR Doc. E6-22268 Filed 12-27-06; 8:45 am]

BILLING CODE 6450-01-P